DEPARTMENT OF JUSTICE

Notice of Lodging of Consent Decree Under the Resource Conservation and Recovery Act

Under 28 CFR 50.7, notice is hereby given that on September 26, 2001, a Consent Decree in United States, et al., v. Lee Brass Co., Inc., Civil Action No. 01-B-2422-S was lodged with the United States District Court for the Northern District of Alabama.

In the Complaint, the United States seeks injunctive relief against Lee Brass Co., Inc. (“Lee Brass”), pursuant to the Resource Conservation and Recovery Act, (“RCRA”), 42 U.S.C. 6901 et seq. for alleged violations at Lee Brass's brass foundry in Anniston, Alabama.

Under the terms of the settlement, Lee Brass will take all steps to come into permanent, consistent compliance with RCRA, including the implementation of management practices with respect to its management of used foundry sand, the closure of its thermal sand reclamation unit, the conduct of a RCRA compliance audit and the implementation of the recommendations of that audit, and corrective action activities associated with each solid waste management unit located at its facility. In addition, Lee Brass will pay a civil penalty of $350,000. The State of Alabama will join in this settlement as a signatory to the Consent Decree.

The Department of Justice will receive for a period of thirty (30) days from the date of this publication comments relating to the Consent Decree. Comments should be addressed to the Assistant Attorney General, Environmental and Natural Resources Division, P.O. Box 7611, U.S. Department of Justice, Washington, D.C. 20044-7611, and should refer to United States, et al., v. Lee Brass Co., Inc., D.J. Ref. 90-7-1-06919.

The Consent Decree may be examined at the Office of the United States Attorney, Northern District of Alabama, Room 200, Robert S. Vance Federal Building, 1800 Fifth Avenue, North, Birmingham, Alabama 35203. A copy of the Consent Decree may also be obtained by mail from the Consent Decree Library, P.O. Box 7611, U.S. Department of Justice, Washington, DC 20044-7611, In requesting a copy; please enclose a check in the amount of $25.25 (25 cents per page reproduction cost) payable to the Consent Decree Library.

Ellen M. Mahan,
Assistant Section Chief, Environmental Enforcement Section, Environment and Natural Resources Division.

[FR Doc. 01-25877 Filed 10-12-01; 8:45 am]

BILLING CODE 4410-15-M